DEPARTMENT OF ENERGY

Federal Energy Regulatory Commission

[Docket No. IC18-17-000]

Commission Information Collection Activities (FERC-576); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-576 (Report of Service Interruptions) and submitting the information collection to the Office of Management and Budget (OMB) for review. Any interested person may file comments directly with OMB and should address a copy of those comments to the Commission as explained below. On July 23, 2018, the Commission published a Notice in the Federal Register in Docket No. IC18-17-000 requesting public comments. The Commission received no comments.

DATES: Comments on the collection of information are due November 9, 2018.

ADDRESSES: Comments filed with OMB, identified by OMB Control No. 1902-0004, should be sent via email to the Office of Information and Regulatory Affairs: oira_submission@omb.gov. Attention: Federal Energy Regulatory Commission Desk Officer.

A copy of the comments should also be sent to the Commission, in Docket No. IC18-17-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-576, Report of Service Interruptions.

OMB Control No.: 1902-0004.

Type of Request: Three-year extension of the FERC-576 information collection requirements with no changes to the current reporting requirements.

Abstract: A natural gas company must obtain Commission authorization to engage in the transportation, sale, or exchange of natural gas in interstate commerce under the Natural Gas Act (NGA).¹ The NGA also empowers the Commission to oversee continuity of service in the transportation of natural gas in interstate commerce. The information collected under FERC-576 notifies the Commission of: (1) Damage to jurisdictional natural gas facilities as a result of a hurricane, earthquake, or other natural disaster, or terrorist activity, (2) serious interruptions to service, and (3) damage to jurisdictional natural gas facilities due to natural disaster or terrorist activity, that creates the potential for serious delivery problems on the pipeline's own system or the pipeline grid.

¹ Public Law 75 688; 15 U.S.C. 717-717w.

Filings (in accordance with the provisions of section 4(d) of the NGA) ² must contain information necessary to advise the Commission when a change in service has occurred. Section 7(d) of the NGA ³ authorizes the Commission to issue a temporary certificate in cases of emergency to assure maintenance of adequate service or to serve particular customers, without notice or hearing.

² 15 U.S.C. 717c.

³ 15 U.S.C. 717f.

Respondents to the FERC-576 are encouraged to submit the reports by email to pipeline.outage@ferc.gov but also have the option of faxing the reports to the Director of the Division of Pipeline Certificates. 18 CFR 260.9(b) requires that a report of service interruption or damage to natural gas facilities state: (1) The location of the service interruption or damage to natural gas pipeline or storage facilities; (2) The nature of any damage to pipeline or storage facilities; (3) Specific identification of the facilities damaged; (4) The time the service interruption or damage to the facilities occurred; (5) The customers affected by the service interruption or damage to the facilities; (6) Emergency actions taken to maintain service; and (7) Company contact and telephone number. The Commission may contact pipelines reporting damage or other pipelines to determine availability of supply, and if necessary, authorize transportation or construction of facilities to alleviate constraints in response to these reports.

A report required by 18 CFR 260.9(a)(1)(i) of damage to natural gas facilities resulting in loss of pipeline throughput or storage deliverability shall be reported to the Director of the Commission's Division of Pipeline Certificates at the earliest feasible time when pipeline throughput or storage deliverability has been restored.

In any instance in which an incident or damage report involving jurisdictional natural gas facilities is required by Department of Transportation (DOT) reporting requirements under the Natural Gas Pipeline Safety Act of 1968, a copy of such report shall be submitted to the Director of the Commission's Division of Pipeline Certificates, within 30 days of the reportable incident.⁴

⁴ 18 CFR 260.9(d).

If the Commission failed to collect these data, it would lose the ability to monitor and evaluate transactions, operations, and reliability of interstate pipelines and perform its regulatory functions. These reports are kept by the Commission Staff as non-public information and are not made part of the public record.

Type of Respondents: Natural gas companies.

Estimate of Annual Burden: ⁵ The Commission estimates the average annual burden and cost ⁶ for this information collection as follows.

⁵ Burden is defined as the total time, effort, or financial resources expended by persons to generate, maintain, retain, or disclose or provide information to or for a Federal agency. Refer to 5 CFR 1320.3 for additional information.

⁶ Costs (for wages and benefits) are based on wage figures from the Bureau of Labor Statistics (BLS) for May 2016 (at https://www.bls.gov/oes/current/naics2_22.htm) and benefits information (for December 2017, issued March 20, 2018, at https://www.bls.gov/news.release/ecec.nr0.htm). Commission staff estimates that 20% of the work is performed by a manager, and 80% is performed by legal staff members. The hourly costs for wages plus benefits are: $94.28 for management services (code 11-0000), and $143.68 for legal services (code 23-0000). Therefore, the weighted hourly cost (for wages plus benefits) is $133.80 [or (0.80 * $143.68) + (0.20 * $94.28)].

FERC-576, Report of Service Interruptions
| Number of respondents | Annual number of responses per respondent | Total number of responses | Average burden hours and cost ($) per response | Total annual burden hours and total annual cost | Cost per respondent ⁷ ($)
| (1) | (2) | (1) * (2) = (3) | (4) | (3) * (4) = (5) | (5) ÷ (1)
Submittal of Original Email/Fax | 21 | 3 | 63 | 1 hr.; $133.80 | 63 hrs.; $8,429.40 | $401.40
Submittal of Damage Report | 21 | 3 | 63 | 0.25 hrs.; $33.45 | 15.75 hrs.; $2,107.35 | 100.35
Submittal of DOT Incident Report | 21 | 1 | 21 | 0.25 hrs.; $33.45 | 5.25 hrs.; $702.45 | 33.45
Total |  |  |  |  | 84 hrs.; $11,239.20 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁷ In the 60-day Notice published July 23, 2018, the figures in this column for “Submittal of Original Email/Fax” and “Submittal of Damage Report” inadvertently showed “cost per response” rather than “cost per respondent.” Those figures are corrected in this notice to show “cost per respondent.”

Dated: October 2, 2018.
Kimberly D. Bose,
Secretary.

[FR Doc. 2018-21890 Filed 10-9-18; 8:45 am]

BILLING CODE 6717-01-P